DEPARTMENT OF COMMERCE

[I.D. 022202B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Coastal Impact Assistance Program: Project Review Checklist.

Form Number(s): None.

OMB Approval Number: 0648-0440.

Type of Request: Regular submission.

Burden Hours: 2,150.

Number of Respondents: 154.

Average Hours Per Response: 5.

Needs and Uses: The Coastal Impact Assistance Program (CIAP) provides funds to seven states and 147 local governments to conduct a variety of projects, including construction and land acquisition. The National Oceanic and Atmospheric Administration (NOAA) must review the projects in accordance with the CIAP legislation before disbursing funds. To expedite review, NOAA developed the CIAP Project Checklist for the construction and land acquisition projects. The Checklist, whose use is voluntary, asks applicants to provide project information to allow NOAA to determine their eligibility under the CIAP as well as eligibility under other relevant statutes (NEPA, etc.).

Affected Public: State, local, or tribal government.

Frequency: One-time.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: February 21, 2002.
Madeleine Clayton,
Departmental Paperwork Clearance Officer, Office of the Chief Information Officer.

[FR Doc. 02-4836 Filed 2-27-02; 8:45 am]

BILLING CODE 3510-22-S